DEPARTMENT OF AGRICULTURE

Submission for OMB Review; Comment Request

February 8, 2022.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 14, 2022 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Pandemic Livestock Indemnity Program.

OMB Control Number: 0560-0301.

Summary of Collection: The Farm Service Agency (FSA) implemented the Pandemic Livestock Indemnity Program (PLIP) provide payments to the eligible livestock and poultry producers. FSA provides relief to livestock and poultry producers based on 80 percent of the market value of livestock or poultry depopulated, and for the cost of such depopulation, other than the costs for which a producer has been compensated under the Environmental Quality Incentives Program. Furthermore, FSA may take into consideration whether a producer has been compensated for the costs of such depopulation by any State program.

Need and Use of the Information: In order to determine whether a producer is eligible for PLIP and to calculate a payment, a producer is required to submit the form FSA-620, PLIP application with the supplement CFAP 1 (Part 2) and CFAP 2 swine payment reduction worksheet, if applicable; the form AD-2047, Customer Data Worksheet, if applicable; the form CCC-902 for Individual or Entity, Farm Operating Plan for Payment Eligibility, Parts A & B; the form CCC-901,Member Information for Legal Entities, if applicable; the form CCC-941, Average Adjusted Gross Income (AGI) Certification and Consent to Disclosure of Tax Information; and the form AD-1026—Highly Erodible Land Conservation (HELC) and Wetland Conservation Certification. Failure to solicit applications will result in failure to provide payments to eligible producers as intended by the Consolidated Appropriations Act.

Description of Respondents: Farms.

Number of Respondents: 2,546.

Frequency of Responses: Reporting; Other (one-time).

Total Burden Hours: 1,408.

Farm Service Agency

Title: Pandemic Assistance for Timber Harvesters and Haulers Program.

OMB Control Number: 0560-0302.

Summary of Collection: FSA implemented the Pandemic Assistance for Timber and Haulers and Harvesters (PATHH) Program to help timber harvesting businesses and timber hauling business impacted by the effects of the COVID-19 Outbreak. FSA is using not more than $200 million as authorized by the Section Subtitle B of Title VII of Division N of the Consolidated Appropriations Act, 2021 (CAA; Pub. L. 116-260) to provide relief to timber harvesting and timber hauling businesses that experienced a gross revenue loss of not less than 10 percent between January 1, 2020 and December 1, 2020, as compared to the gross revenue of that business in the same period in 2019.

Need and Use of the Information: In order to determine whether a producer is eligible for PATHH and to calculate a payment, a producer is required to submit the form FSA-1118, PATHH application, the form AD-2047; Customer Data Worksheet, if applicable; the form CCC-901, Member Information for Legal Entities, if applicable; the form AD-1026, Highly Erodible Land Conservation (HELC) and Wetland Conservation (WC) Certification, and the IRS Form 2290, Heavy Highway Vehicle Use Tax Return (Timber haulers only). The information submitted by respondents will be used by FSA to determine eligibility and distribute payments to eligible businesses under PATHH. Failure to solicit applications will result in failure to provide payments to eligible producers as intended by the Consolidated Appropriations Act.

Description of Respondents: Businesses or other for-profit.

Number of Respondents: 2,396.

Frequency of Responses: Reporting; Other (one-time).

Total Burden Hours: 815.

Ruth Brown,
Departmental Information Collection Clearance Officer.

[FR Doc. 2022-02982 Filed 2-10-22; 8:45 am]

BILLING CODE 3410-05-P